SOCIAL SECURITY ADMINISTRATION

Statement of Organization, Functions and Delegations of Authority

This statement amends Part S of the Statement of the Organization, Functions and Delegations of Authority that covers the Social Security Administration (SSA). Chapter S4 covers the Deputy Commissioner for Systems. Notice is given that Chapter S4 is being amended to reflect the establishment of a new subchapter S4N, the Office of Information Technology Architecture with four subordinate staff offices. The new material and changes are as follows:

Section S4.10 The Office of the Deputy Commissioner, Systems—(Organization)

Establish: J. The Office of Information Technology Architecture (S4N).

Section S4.20 The Office of the Deputy Commissioner, Systems—(Functions)

Establish: J. The Office of Information Technology Architecture (OITA) (S4N) directs the design, development and maintenance of SSA's information technology architecture program and directs SSA's data base integration activities to improve the administration of SSA's Programmatic and MI/Administrative data bases and to implement modern data base management systems (DBMS) technology. The Office provides design and development support for all data base management systems used in Programmatic and MI/Administrative systems. OITA directs an on-going, comprehensive information technology architecture program to modernize the Agency's infrastructure by proposing, establishing, and implementing standards for common hardware, software and processes to ensure interoperability, minimize cost, and comply with government regulations such as the GPRA. The OITA establishes enterprise policies for the management of all hardware and software. It develops and oversees the implementation of standards, methods and procedures for software design and development. It integrates the business process and goals of the agency with information technology acquisitions as part of the overall budget planning process.

Section S4G.00 The Office of Systems Design and Development—(Mission)

Replace as follows: OSDD directs the design, development and maintenance of all programmatic software to support SSA's social insurance and income maintenance programs. It is responsible for a comprehensive software-engineering program and oversees the implementation of standards, methods and procedures in connection with this program. OSDD directs and coordinates a comprehensive software-configuration management program and manages a detailed project control system for OSDD software development projects. It develops policies and procedures, prepares procurement documents for and oversees acquisition of software packages and tools and software support services. OSDD plans and directs a software development facility to support applications development personnel. It services as liaison with other SSA components and external monitoring authorities including the Deputy Commissioner for Human Resources, General Services Administration, General Accounting Office and Congress on SSA applications systems planning and software and data base development.

Section S4G.10 The Office of Systems Design and Development—(Organization)

Delete: L. The Division of Data base Systems (S4GP).

Section S4G.20 The Office of Systems Design and Development—(Functions)

Delete in its entirety: L. The Division of Data base Systems (S4GP).

Establish Subchapter:

Subchapter S4N

Office of Information Technology Architecture

S4N.00 Mission

S4N.10 Organization

S4N.20 Functions

Section S4N.00 The Office of Information Technology Architecture—(Mission)

The Office of Information Technology Architecture (OITA) directs the design, development and maintenance of SSA's information technology architecture program and directs SSA's data base integration activities to improve the administration of SSA's Programmatic and MI/Administrative data bases and to implement modern data base management systems (DBMS) technology. The Office provides design and development support for all data base management systems used in Programmatic and MI/Administrative systems. OITA directs an on-going, comprehensive information technology architecture program to modernize the Agency's infrastructure by proposing, establishing, and implementing standards for common hardware, software and processes to ensure interoperability, minimize cost, and comply with government regulations such as the GPRA. The OITA establishes enterprise policies for the management of all hardware and software. It develops and oversees the implementation of standards, methods and procedures for software design and development. It integrates the business process and goals of the agency with information technology acquisitions as part of the overall budget planning process.

Establish:

Section S4N.10 Office of Information Technology Architecture—(Organization)

The Office of Information Technology Architecture, under the leadership of the Director for Information Technology Architecture, includes:

A. The Director for Information Technology Architecture (S4N).

B. The Deputy Director for Information Technology Architecture (S4N).

C. The Immediate Office of the Office Director for Information Technology Architecture (S4N).

D. The Data Base Administration Staff (S4NA).

E. The Data Base Management Staff (S4NB).

F. The Data Recourse Management Staff (S4NC).

G. The Electronic Processing Staff (S4NE).

Section S4N.20 Office of Information Technology Architecture—Functions)

A. The Director for Information Technology Architecture (S4N) is directly responsible to the Deputy Commissioner, Systems for carrying out the Office of Information Technology Architecture's mission and managing its respective components.

B. The Deputy Director for Information Technology Architecture (S4N) assists the Office Director in carrying out responsibilities and performs other duties as the Office Director may prescribe.

C. The Immediate Office of the Office Director for Information Technology Architecture (S4N) provides internal operations and management analysis staff support and assistance to the Director and all of the Office of Information Technology Architecture components.

D. The Data Base Administration Staff (S4NA).

1. Responsible for data base administration and base related design and development activities for all of SSA's systems.

2. Responsible for SSA's major programmatic and administrative master files.

3. Develops data base architecture to modernize the way SSA performs its data processing functions for SSA's major programmatic and administrative master files.

4. Provides overall management and development of access to SSA's major master files.

5. Performs design, data base administration, and technical support of the major master files, and auxiliary programmatic applications files and data bases using IDMS, DB2, ORACLE and SQL/Server.

6. Directs the analyses of SSA processes and software related to data usage and administration. For example, SSA files records, data elements, etc.

7. Directs the development of project plans reflecting the tasks and schedules required to implement data base management and data administration projects as designated by SSA's Software Modernization Plan.

8. Directs the analysis and preparation of requirement statements for software and statements of work for software services in support of the SSA data base management and data administration functions.

9. Directs the evaluation of data base management packages and new technologies, for suitability, in addressing SSA's data management problems.

10. Directs the development of data storage strategies to address SSA's data usage requirements.

11. Provides the techniques to evaluate and measure the appropriate mix of hardware architectures suitable for SSA data bases (i.e., magnetic and optical direct access storage devices, mass storage, magnetic tape, etc.).

12. Plans, organizes and directs post-implementation reviews of data base integration projects to evaluate their effectiveness.

13. Serves as liaison with other SSA components and external authorities in matters pertaining to data base management and data base integration.

14. Directs the preparation of budget items describing the resource projections required to support future activities within the Staff's scope of responsibility.

15. Directs the definition of level of security and control required for protecting and monitoring access to data.

E. The Data Base Management Staff (S4NB).

1. Directs the definition of data storage architectures to support data management based upon performance characteristics and capabilities required in the SSA environment.

2. Directs the development and evaluation of implementation alternatives for each data base integration project.

3. Provides guidance and direction in the selection of the appropriate mix of commercial software packages and developmental software to satisfy data base requirements.

4. Directs the design, development (or acquisition), validation, and implementation of data base management systems and data support software.

5. Directs in the design and development of new or modified software for accessing SSA data bases and files used in ADP processes; and directs the selection and implementation of commercial packages for this purpose.

6. Directs the establishment of systems and procedures for protecting and monitoring data integrity including the establishment of data base backup and recovery methods, data access controls and audit trails.

7. Provides direction in the design, development and implementation of applications support software to facilitate interaction between data bases and applications software.

8. Directs the establishment and maintenance of support software providing data independence so that the evolution of data storage to new architectures is not disruptive to SSA's applications software.

9. Directs the design and development of data compression and data migration techniques that are consistent with the changing constraints of the SSA environment.

10. Responsible for devising, promoting, ensuring and enforcing appropriate security measures for the facility, operational activity, or both, for the defined areas of management and/or supervisory responsibility.

F. The Data Resource Management Staff (S4NC).

1. Develops and maintains the Data Resource Management System which is the official repository of data and metadata for the SSA programmatic systems.

2. Develops and maintains the Master Data Access Method (MADAM) software which manages the major programmatic master files.

3. Directs the development, implementation and maintenance of a comprehensive inventory of information (data dictionary) on SSA's systems, programs, modules, data bases, files, data groups and data elements. The information will be arranged to provide access and update capabilities.

4. Directs the development and enforcement of technical standards and data resource policies as they relate to the DRMS.

5. Directs the definition of data base access controls as well as access to data resource information by supporting specific requests, non-specific hierarchical requests, report generation and customized production of machine-readable products.

6. Provides guidance and direction in developing copy statements, subschema definitions, and reports describing the characteristics of the software and data that support SSA's mission.

7. Directs the establishment of automated documentation products and analytical products to support software engineering and data base integration.

8. Provides support and direction for the automated interface between the DRMS and other system management systems such as EDPOCS, VALUE, ASM-2, etc.

9. Provides direction in identifying techniques and tools that support data resource management as well as evaluating new data resource technology to the SSA environment.

10. Responsible for devising, promoting, ensuring and enforcing appropriate security measures for the facility, operational activity, or both, for the defined areas of management and/or supervisory responsibility.

G. The Electronic Processing Staff (S4NE).

1. Serves as the agency focal point for technologies related to document imaging, electronic document management and electronic workflow processes.

2. Directs the definition of data and image management to facilitate workflow processing and re-engineering of processes to support data management based upon performance characteristics and capabilities required in the SSA environment.

3. Directs the development and evaluation of implementation alternatives for each data base, data image and workflow process and its integration with other projects.

4. Provides guidance and direction in the selection of the appropriate commercial software packages and developmental software to satisfy data base, data image and workflow requirements.

5. Directs the design, development, acquisition, validation, and implementation of data image and workflow management systems and data support software.

6. Directs the design and development of new or modified software for document imaging and workflow processing and directs the selection and implementation of commercial packages for this purpose.

7. Directs the establishment of systems and procedures for protecting and monitoring data integrity including the establishment of data backup and recovery methods, data access controls and audit trails.

8. Provides direction in the design, development and implementation of applications support software to facilitate interaction between document imaging and workflow processing and applications software.

9. Directs the establishment and maintenance of support software providing document imaging and workflow processing so that the evolution to new architectures is not disruptive to SSA's applications software.

10. Directs the design and development of software and/or identifies commercial software that handles computer output to laser disc (COLD) applications.

11. Devises, promotes, ensures and enforces appropriate security measures for the facility, operational activity, or both, for the defined areas of management and/or supervisory responsibility.

Dated: March 30, 2001.
Larry G. Massanari,
Acting Commissioner of Social Security.

[FR Doc. 01-8838 Filed 4-10-01; 8:45 am]

BILLING CODE 4191-02-U